DEPARTMENT OF ENERGY

Western Area Power Administration

2015 Resource Pool—Sierra Nevada Region

AGENCY: Western Area Power Administration, DOE.

ACTION: Notice of Final Power Allocations.

SUMMARY: The Western Area Power Administration (Western), a Federal power marketing administration of DOE, announces the Final 2015 Resource Pool allocations pursuant to its 2004 Power Marketing Plan (Marketing Plan) for the Sierra Nevada Customer Service Region (SNR). This notice includes a summary of the comments received on Western's proposed 2015 Resource Pool allocations and Western's responses.

DATES: The Final 2015 Resource Pool allocations will become effective on January 10, 2011.

FOR FURTHER INFORMATION CONTACT: Ms. Sonja Anderson, Power Marketing Manager, Western Area Power Administration, Sierra Nevada Customer Service Region, 114 Parkshore Drive, Folsom, CA 95630-4710, (916) 353-4421, sanderso@wapa.gov.

SUPPLEMENTARY INFORMATION:

Background

Western published its Marketing Plan for SNR in the Federal Register (64 FR 34417, June 25, 1999). The Marketing Plan specifies the terms and conditions under which Western markets power from the Central Valley Project and the Washoe Project beginning January 1, 2005, and continuing through December 31, 2024. The Marketing Plan sets aside a portion of the SNR's marketable power resources to establish a 2015 Resource Pool for new power allocations.

On June 3, 2009, Western published the Call for 2015 Resource Pool Applications in the Federal Register (74 FR 26671). On September 28, 2009, Western published a Notice of Extension in the Federal Register (74 FR 49366). The Call for 2015 Resource Pool Applications required that applications be submitted by August 3, 2009, and the Notice of Extension extended the application date to October 28, 2009. In response to the call for applications, Western received 57 applications. After reviewing and considering the applications, on July 30, 2010, Western published the Proposed 2015 Resource Pool Allocations in the Federal Register (75 FR 44942) and opened a 30-day comment period on those allocations. The formal comment period on the proposed power allocations from the 2015 Resource Pool ended on August 30, 2010. A summary of the comments received and Western's responses are provided below. After considering all comments, Western has decided to finalize the proposed power allocations.

Responses to Comments Received on The Notice of Proposed 2015 Resource Pool Allocations (75 Fr 44942, July 30, 2010)

During the comment period, Western received six letters commenting on the proposed allocations from the 2015 Resource Pool. Western reviewed and considered all comments. The comments and Western's responses are provided below.

Comment: Two commentors expressed their appreciation and support for the proposed 2015 Resource Pool allocations.

Response: Western notes the comments of support for its 2015 Resource Pool allocations.

Comment: Three commentors requested that Western reconsider providing them with an allocation from the 2015 Resource Pool. One commentor stated the cost of electricity is critical to the success of its programs, which carry out energy-intensive scientific and national defense research. Another stated it is committed to the environment and that commitment is demonstrated through various projects using Western's power such as providing power to docked ships and charging batteries for ground equipment at the airport. Another stated that it is ready and able to use an increased allocation to meet Reclamation Act goals of widespread use.

Response: Western recognizes that the commentors perform important functions. Western has a limited amount of power to allocate, and not all applicants received an allocation of Federal power. The Resource Pool was made up of only 2 percent of the SNR's resources available for marketing. Western received 57 applications for an allocation from the 2015 Resource Pool and evaluated those applications and made allocations according to the eligibility and allocation criteria set forth in the Marketing Plan.

Comment: Four commentors requested that, in the event some allottees are unable to take the allocation, Western should consider providing the commentors with an allocation/increased allocation from the 2015 Resource Pool. Three of those commentors are expecting their loads to increase in the coming years.

Response: Western will allocate any available power according to the eligibility and allocation criteria set forth in the Marketing Plan.

Comment: One commentor requested an increase in its allocation to the median level of the allocations.

Response: Western considered the size of the applicants' loads when it made the allocations according to the allocation criteria set forth in the Marketing Plan. Because not all applicants' loads are the same size, the allocations were also not the same size.

Comment: Two commentors asked Western to clarify the criteria it used in determining the allocations from the 2015 Resource Pool.

Response: Under the Marketing Plan, Western allocated power to the applicants that met the eligibility criteria set forth in the Marketing Plan. Western then applied the allocation criteria to all applicants receiving an allocation. The eligibility criteria and allocation criteria are discussed in the Marketing Plan and the Call for Applications.

Final 2015 Resource Pool Allocations

The final 2015 Resource Pool allottees are listed below. The allocations are expressed as percentages of the Base Resource (BR) with an estimated megawatthour (MWh) amount of each allocation. The estimated MWh for each allocation assumes an estimated average annual BR of 3,342,000 MWh and are rounded to the nearest MWh. The actual amount of BR a customer will receive will vary hourly, daily, monthly, and annually depending on hydrology and other constraints that may govern the CVP operations. The final allocations are as follows:

Applicant | Base resource allocation percent | Estimated (MWh)
Alameda Municipal Power | 0.06140 | 2,052
Bay Area Rapid Transit District | 0.06140 | 2,052
California State University, Sacramento | 0.06140 | 2,052
Cawelo Water District | 0.06140 | 2,052
Dry Creek Rancheria Band of Pomo Indians | 0.07795 | 2,605
East Bay Municipal Utility District | 0.06140 | 2,052
Fallon, City of | 0.06140 | 2,052
Healdsburg, City of | 0.06140 | 2,052
Hoopa Valley Tribe | 0.12274 | 4,102
Kings River Conservation District | 0.00491 | 164
Klamath Water and Power Agency | 0.04668 | 1,560
Lassen Municipal Utility District | 0.06140 | 2,052
Lodi, City of | 0.06140 | 2,052
Lompoc, City of | 0.06140 | 2,052
Marin Energy Authority | 0.62094 | 20,752
Merced Irrigation District | 0.06140 | 2,052
Navy, U.S. Dept of, Monterey Post Graduate School | 0.04873 | 1,628
Picayune Rancheria of the Chukchansi Indians | 0.00674 | 225
Presidio Trust | 0.03503 | 1,170
Santa Clara Valley Water District | 0.06140 | 2,052
Sonoma County Water Agency | 0.06140 | 2,052
South San Joaquin Irrigation District | 0.01400 | 468
Stockton, Port of | 0.02421 | 809
Truckee Donner Public Utility District | 0.06140 | 2,052
Turlock Irrigation District | 0.06140 | 2,052
University of California, San Francisco | 0.06140 | 2,052
Zone 7, Alameda County Flood Control & Water Conservation District | 0.01573 | 525
| 2.00000 | 66,840

Contracting Process

After the effective date of this notice, Western will begin the contracting process with allottees who are not currently customers. Allottees must execute and return without modification Western's electric service contract to purchase the BR within 6 months of the contract offer, unless otherwise agreed to in writing by Western. Western reserves the right to withdraw and reallocate any power if an allottee does not execute the electric service contract within the 6-month period. The date of initial service under these contracts is January 1, 2015, and these contracts will remain in effect until midnight of December 31, 2024. Existing customers who received power allocations from the 2015 Resource Pool will receive a revised Exhibit A to their BR contracts increasing their percentage of the BR.

If requested, Western will work with customers to develop a custom product to meet their needs. Custom products are described in the Marketing Plan and are offered under contracts separate from the BR.

In the event there is any unallocated power after this process, Western reserves the right to reallocate such power according to the eligibility and allocation criteria set forth in the Marketing Plan. Entities who have submitted an application pursuant to this process need not re-submit an application if they wish to be considered. Western will contact such eligible entities.

Authorities

The Marketing Plan, published in the Federal Register (64 FR 34417) on June 25, 1999, was established pursuant to the Department of Energy Organization Act (42 U.S.C. 7101-7352); the Reclamation Act of June 17, 1902 (ch. 1093, 32 Stat. 388) as amended and supplemented by subsequent enactments, particularly section 9(c) of the Reclamation Project Act of 1939 (43 U.S.C. 485(c)); and other acts specifically applicable to the projects involved. This action falls within the Marketing Plan and, thus, is covered by the same authority.

Regulatory Procedural Requirements: Western addressed the regulatory procedure requirements in its rulemaking for the Marketing Plan (64 FR 34417).

Dated: December 1, 2010.
Timothy J. Meeks,
Administrator.

[FR Doc. 2010-31060 Filed 12-9-10; 8:45 am]

BILLING CODE 6450-01-P